DEPARTMENT OF THE INTERIOR

Bureau of Land Management

[OR-025-1110-MR-SSSS; 8-0118]

Notice of Intent To Amend the Three Rivers Resource Management Plan and Conduct Public Scoping

AGENCY: Bureau of Land Management, U.S. Department of the Interior.

ACTION: Notice of Intent.

SUMMARY: In accordance with the National Environmental Policy Act of 1969 and the Federal Land Policy and Management Act of 1976, the Bureau of Land Management (BLM) Burns District in Burns, Oregon, intends to amend the Three Rivers Resource Management Plan (RMP) with an associated Environmental Assessment (EA) that also analyzes effects of undertaking the Greater Sage-grouse Habitat Improvement Project (GSHIP) located in Harney County, Oregon. The objective of the proposal is to improve sage-grouse habitat and reestablish once open sagebrush habitats encroached upon by western juniper. The BLM also intends to consider allowance for harvest of downed western juniper trees south of U.S. Highway 20 and west of Oregon State Highway 205 for fuel wood, posts and poles, and for commercial harvest of juniper boughs for use in holiday decorating. Allowance for harvest of downed juniper trees and juniper boughs would amend the Three Rivers RMP. By this notice, the BLM is announcing the beginning of the public scoping process.

DATES: Scoping comments will be accepted for 30 days following publication of this notice in the Federal Register. Public notice will be provided when the Draft RMP Amendment and associated EA become available later this year (2008). Written comments will also be accepted throughout the planning process at the address below.

ADDRESSES: You may submit comments to GSHIP/RMP Amendment Lead, BLM Burns District Office, 28910 Highway 20 West, Hines, Oregon 97738; fax to (541) 573-4411; or e-mail to Joan_Suther@or.blm.gov. Comments, including the names and addresses of respondents, will be available for public review at the Burns District Office during regular business hours 7:45 a.m. to 4:30 p.m., Monday through Friday, except holidays, and may be published as part of the Decision. Before including your address, phone number, e-mail address, or other personal identifying information in your comment, you should be aware that your entire comment—including your personal identifying information—may be made publicly available at any time. While you can ask us in your comment to withhold your personal identifying information from public review, we cannot guarantee that we will be able to do so. Anonymous comments will not be considered. All submissions from organizations and businesses, and from individuals identifying themselves as representatives or officials of organizations or businesses, will be available for public inspection in their entirety.

FOR FURTHER INFORMATION CONTACT: GSHIP/RMP Amendment Project Lead, BLM Burns District Office, 28910 Highway 20 West, Hines, Oregon 97738; (541) 573-4503; Fax (541) 573-4411; e-mail Joan_Suther@blm.gov; or visit the Burns District Web site at http://www.blm.gov/or/districts/burns/plans/index.php.

SUPPLEMENTARY INFORMATION: The GSHIP project was developed from management objectives identified in the Three Rivers RMP. The Three Rivers Plan directs BLM to: “* * * restore, maintain, or enhance the diversity of plant communities and wildlife habitat in abundances and distributions which prevent the loss of specific native plant community types or indigenous wildlife species habitat within the Resource Area” (WL-7.2); “* * * maintain, restore or enhance the habitat of candidate, State listed and other sensitive species to maintain the populations at a level which will avoid endangering the species and the need to list the species by either State or Federal governments” (SSS-2); and “* * * maintain, restore or enhance the diversity of plant communities and plant species in abundances and distributions, which prevent the loss of specific native plant community types or indigenous plant species within the Resource Area” (V-1).

In addition to direction from the Three Rivers RMP, managers are directed to meet management objectives and guidelines set forth in the Greater Sage-grouse and Sagebrush-Steppe Ecosystems Management Guidelines (2001). These management objectives and guidelines include: “* * * maintain and enhance existing sage-grouse habitats, use mechanical treatment or prescribed fire to remove juniper where it has invaded into * * * sites with mountain big sagebrush and/or low sagebrush; and vegetation manipulations should benefit the long-term health of sage-grouse habitat.”

Greater sage-grouse have been declining across much of their native range for decades due to habitat modification and fragmentation. Changes to habitat and habitat fragmentation have come from both natural and human causes. Human caused habitat change and fragmentation have resulted from urban sprawl, rangeland modification, and infrastructure development (i.e., power lines, highways, etc.). Natural habitat changes have been induced through fire, climate change, and succession; however, even natural causes have been influenced by man to some degree. One cause of sage-grouse habitat loss in the Three Rivers Resource Area is due to western juniper encroachment into what were once sagebrush dominated landscapes.

Historic grazing practices (which removed fine herbaceous fuels) and fire suppression activities at the turn of the century reduced influence of the fire regime in the project area. Fire was the principal factor controlling conifer encroachment into shrub-grassland communities in the Intermountain West prior to Euro-American immigration (110 to 130 years ago) (West 1999; Miller and Tausch 2001). As frequency and size of fires across the landscape lessened, juniper expanded into shrub-grassland communities with an overall loss in ecosystem function and a dramatic alteration in historic biodiversity, hydrologic cycles, fauna, and nutrient cycling (Bates et al. 1998).

Recent inventories of western juniper in eastern Oregon indicate juniper woodlands and savannahs cover an area of over five million acres (Gedney et al. 1999). Comparisons with data generated by earlier inventories suggest the area supporting western juniper has increased fivefold since 1936. Harney County is one of four counties in Oregon that contain more than one-half million acres of western juniper woodlands.

Sage-grouse are sensitive to juniper encroachment and have been shown to avoid juniper communities for nesting and winter habitat (Miller et al. 2005). Continued expansion of juniper will lead to further losses of suitable sage-grouse habitat. While the problem of juniper encroachment is prevalent across the Resource Area, the Glass Butte/Rye Grass area was selected to expand upon a small-scale project completed there in 2006.

Initial scoping (March 1 to April 1, 2007) for the GSHIP expressed interest from the public in harvesting downed juniper for fuel wood, posts and poles. Additional preliminary issues and management concerns identified by BLM personnel and the public include management of Air Quality, Water Quality, Migratory Birds, Special Status Species fauna and flora, Noxious Weeds, Cultural Heritage and Hazardous Materials.

An interdisciplinary approach will be used to develop the EA in order to consider the variety of resource issues and concerns identified. Disciplines involved in the project will include (but not be limited to) those with expertise in management of the aforementioned resources.

Dated: June 11, 2008.
Dana R. Shuford,
Burns District Manager.

[FR Doc. E8-13582 Filed 6-16-08; 8:45 am]

BILLING CODE 4310-33-P